DEPARTMENT OF ENERGY

Bonneville Power Administration

Mid-Columbia Coho Restoration Project

AGENCY: Bonneville Power Administration (BPA), Department of Energy (DOE).

ACTION: Notice of intent to prepare an Environmental Impact Statement (EIS) and notice of floodplain and wetlands involvement.

SUMMARY: This notice announces BPA's intention to prepare an EIS on funding the Confederated Tribes and Bands of the Yakama Nation (YN) to undertake the reintroduction of coho salmon into mid-Columbia River basin tributaries. The reintroduction would occur in the Methow and Wenatchee river basins in Chelan and Okanogan counties, Washington. The proposed reintroduction project would use both existing hatchery facilities as well as require construction of some new permanent and temporary facilities and modification of existing sites to serve as semi-natural rearing areas for juvenile coho.

With this Notice of Intent, BPA is initiating the public scoping process for the EIS. BPA is requesting comments about potential environmental impacts that it should consider as it prepares the EIS for the proposed project, as well as comments on other alternatives that may meet the goals of the project.

In accordance with DOE regulations for compliance with floodplain and wetlands environmental review requirements, BPA will prepare a floodplain and wetlands assessment to avoid or minimize potential harm to or within any affected floodplains and wetlands. The assessment will be included in the EIS.

DATES: Written scoping comments are due to the address below no later than September 15, 2009. Comments may also be made at the EIS scoping meetings to be held on August 20, 2009 and August 21, 2009 at the addresses below.

ADDRESSES: Send letters with comments and suggestions on the proposed scope of the Draft EIS, and requests to be placed on the project mailing list, to Bonneville Power Administration, Public Affairs Office—DKE-7, P.O. Box 14428, Portland, OR 97293-4428, or by fax to (503) 230-3285. You also may call BPA's toll free comment line at (800) 622-4519 and leave a message (please include the name of this project), or submit comments online at http://www.bpa.gov/comment. BPA will post all comment letters in their entirety on BPA's Web site at http://www.bpa.gov/comment.

On Thursday, August, 20, 2009, a scoping meeting will be held from 6:30 p.m. to 9 p.m. at the Chelan Fire District 3 Community Center in Leavenworth, Washington. On Friday, August 21, 2009, a scoping meeting will be held from 6:30 p.m. to 9 p.m. at the Methow Valley Community Center in Twisp, Washington. At these meetings, we will provide a brief presentation of the proposal, beginning about 7 p.m. We will take comments and answer questions during the presentation. Following the presentation, members of the project team will be available to answer questions, accept oral and written comments, and provide maps and other information about the project. You may stop by anytime during the open house.

FOR FURTHER INFORMATION CONTACT: Bruce Hollen, Environmental Coordinator, Bonneville Power Administration—KEC-4, P.O. Box 3621, Portland, Oregon 97208-3621; toll-free telephone 1-800-282-3713; direct telephone 503-230-5756; or e-mail bahollen@bpa.gov. Additional information can be found at BPA's Web site: http://www.efw.bpa.gov/environmental_services/nepadocs.aspx, click on “Project Reviews—Active,” then use the drop-down box and click on Mid-Columbia Coho Restoration Project.

SUPPLEMENTARY INFORMATION: In 1999, BPA prepared an Environmental Assessment/Finding of No Significant Impact to support the funding of the YN-proposed Mid-Columbia Coho Restoration Feasibility Project. Over the past 10 years, the feasibility project has indicated that the concepts that were tested have the potential to result in the successful re-introduction of naturally reproducing populations of coho. The YN has also prepared a Master Plan to assess and guide the development of the full reintroduction program based on what was learned from the feasibility study and comments from the Northwest Power and Conservation Council's (NPCC) Independent Scientific Review Panel (ISRP).

Alternatives Proposed for Consideration. BPA is currently considering two action alternatives for evaluation in the EIS. The alternatives propose a combination of sites used in the feasibility study and new hatchery sites and juvenile rearing sites. The difference between the alternatives is largely the number and distribution of juvenile rearing sites.

• Master Plan Alternative: The Master Plan alternative would follow the steps and transition points for the reintroduction phases described in the Master Plan. This alternative would include 20 juvenile rearing sites distributed throughout the Wenatchee and Methow basins. The number and distribution is intended to optimize the use of resources and result in efficient distribution of returning adults to the best habitat while minimizing potential interactions with other salmon species.

• Reduced Production Alternative: This alternative would follow the same implementation steps as described in the Master Plan, but would use fewer juvenile rearing sites with a corresponding decrease in released juveniles. This is intended to further reduce inter-species competition and potential water quality effects.

BPA is also considering the No Action Alternative, that is, not funding the YN's proposal. Under the no action alternative the YN would use internal non-federal funding to implement their proposal but the scope of the proposed activities would be less than the Reduced Production Alternative. Other alternatives may be identified through the scoping process.

Public Participation and Identification of Environmental Issues. The potential environmental issues identified for this reintroduction project include threatened and endangered species, sensitive plants and animals, fisheries, water quality and quantity, land use, socioeconomics, cultural resources, soil erosion, wetlands, and floodplains. BPA has established a 45-day scoping period during which tribes, affected landowners, concerned citizens, special interest groups, local and Federal governments, and any other interested parties are invited to comment on the scope of the proposed EIS, including potential alternatives to be considered and environmental impacts to be evaluated. Scoping will help BPA ensure that a full range of issues related to this proposal is addressed in the EIS, and also will identify significant or potentially significant impacts that may result from the proposed project. When completed, the Draft EIS will be circulated for review and comment, and BPA will hold public meetings to answer questions and receive comments. BPA will consider and respond to comments received on the Draft EIS in the Final EIS. The Final EIS is expected to be published in late summer 2011. BPA's decision will be documented in a Record of Decision that will follow the Final EIS.

Issued in Portland, Oregon, on July 22, 2009.
Stephen J. Wright,
Administrator and Chief Executive Officer.

[FR Doc. E9-18188 Filed 7-29-09; 8:45 am]

BILLING CODE 6450-01-P